DEPARTMENT OF LABOR

Employment and Training Administration

Solicitation for Grant Applications (SGA); High-Growth Job Training Initiative Grants Correction

AGENCY: Employment and Training Administration (ETA), Labor.

ACTION: Notice; correction.

SUMMARY: The Employment and Training Administration published a document in the Federal Register of September 17, 2004, concerning the availability of grant funds for address labor shortages, innovative training strategies, and other workforce challenges in the healthcare and biotechnology industries. The document contained incorrect application requirements.

FOR FURTHER INFORMATION CONTACT: Kevin Brumback, Grants Management Specialist, Division of Federal Assistance, Fax (202) 693-2879.

Corrections

In the Federal Register of September 17, 2004, in FR Volume 69, Number 180:

• On page 56087, in the third column, remove “• Assurances and Certifications Signature Page (Appendix C).”

• On page 56091, in the third column, add “Appendix E: OMB N. 0348-0046: Disclosure of Lobbying Activities. This form will be required upon selection for award.”

• On page 56087, in the second column, is corrected to add: The Budget Information Form (Appendix B): “If applying through grants.gov the Budget information Form is to be added as an attachment to the application. This form can be found on http://www.doleta.gov/sga/sga.cfm.”

Dated: September 22, 2004.
Signed at Washington, DC, this 22nd day of September, 2004.
Eric D. Luetkenhaus,
Grant Officer.

BILLING CODE 4510-30-P

[FR Doc. 04-21659 Filed 9-27-04; 8:45 am]

BILLING CODE 4510-30-C